DEPARTMENT OF AGRICULTURE

Animal and Plant Health Inspection Service

9 CFR Part 130

[Docket No. 98-003-2]

Veterinary Services User Fees; Export Certificate Endorsements

AGENCY: Animal and Plant Health Inspection Service, USDA.

ACTION: Final rule.

SUMMARY: We are establishing a maximum user fee for the endorsement of export certificates for a single shipment of animals or birds that require verification of tests or vaccinations. Prior to this final rule, user fees for these endorsements were based on the number of animals or birds listed on the certificate and the number of tests or vaccinations that the importing country required for those animals or birds. We are taking this action in response to requests from industry organizations and from our field and port employees to reconsider the fairness of these user fees for large export shipments of animals. The maximum user fee will result in lower user fees for large shipments, yet still recover the full cost of providing this service.

EFFECTIVE DATE: April 26, 2000.

FOR FURTHER INFORMATION CONTACT: Ms. Donna Ford, Section Head, Financial Systems and Services Branch, BASE, MRPBS, APHIS, 4700 River Road Unit 54, Riverdale, MD 20737-1232; (301) 734-8351.

SUPPLEMENTARY INFORMATION:

Background

User fees to reimburse the Animal and Plant Health Inspection Service (APHIS) for the costs of providing veterinary diagnostic services and import- and export-related services for live animals and birds and animal products are contained in 9 CFR part 130 (referred to below as the regulations). Section 130.20 lists user fees we charge for endorsing certificates for animals and birds exported from the United States. Importing countries often require these certificates to show that an animal or bird has tested negative to specific animal diseases or that an animal or bird has not been exposed to specific animal diseases. The endorsement indicates that APHIS has reviewed a certificate and believes it to be accurate and reliable. The steps associated with endorsing an export certificate may include reviewing supporting documentation; confirming that the importing country's requirements have been met; verifying laboratory test results for each animal if tests are required; reviewing any certification statements required by the importing country; and endorsing, or signing, the certificates. Our user fees are intended to cover all of the costs associated with endorsing the certificates.

On September 23, 1999, we published in the Federal Register (64 FR 51477-51479, Docket No. 98-003-1) a proposal to amend the regulations by establishing a maximum user fee for the endorsement of export certificates for a single shipment of animals or birds that require verification of tests or vaccinations. User fees for these endorsements were based on the number of animals or birds listed on the certificate and the number of tests or vaccinations that the importing country required for those animals or birds. We proposed to establish a maximum user fee of 12 times the hourly rate listed in § 130.21 of the regulations, since large shipments rarely take more than 12 hours to verify. The proposed maximum user fee was intended to lower user fees for large shipments, yet still allow APHIS to recover the full cost of providing this service.

We solicited comments concerning our proposal for 60 days ending November 22, 1999. We did not receive any comments. Therefore, for the reasons given in the proposed rule, we are adopting the proposed rule as a final rule, without change.

Executive Order 12866 and Regulatory Flexibility Act

This rule has been reviewed under Executive Order 12866. The rule has been determined to be not significant for the purposes of Executive Order 12866 and, therefore, has not been reviewed by the Office of Management and Budget.

We are revising our user fees to implement a maximum user fee for the endorsement of export certificates that require the verification of tests or vaccinations for the animals or birds on the certificate. The maximum user fee will be 12 times the hourly rate user fee listed in § 130.21 of the regulations.

User fees for the endorsement of export certificates will continue to be calculated based on the current user fees. The maximum user fee will be used whenever the calculated user fee is higher than the maximum user fee. This will benefit exporters with large shipments. The following table compares the maximum user fee to the charges for endorsing export certificates for large shipments based on current user fees.

Number of tests or vaccinations | Current user fee | Current charge for large shipment (300 animals) | Proposed maximum user fee ¹
1 or 2 | $52.50 (first animal) $3.00 (each additional) | $949.50 | $672
3 to 6 | 64.75 (first animal) 5.00 (each additional) | 1,559.75 | 672
7 or more | 75.75 (first animal) 6.00 (each additional) | 1,869.75 | 672
¹ Based on 12 times $56 (the current hourly rate user fee).

In fiscal year 1998, APHIS issued 6,245 export certificates that required the verification of tests or vaccinations. Of these, only 80 (1.28 percent) would have benefitted from the maximum user fee. Using the maximum user fee will cost less than the current user fees for any export certificates for a single shipment of:

• 208 or more animals with 1 or 2 tests,

• 123 or more animals with 3 to 6 tests, or

• 101 or more animals with 7 or more tests.

The maximum user fee could affect some exporters of live animals or birds. Any exporter of live animals or birds whose total sales are less than $5 million annually is a small entity according to the Small Business Administration's criteria. The number of entities that export live animals or birds and that would qualify as small entities under this definition cannot be determined. Data from the 1995 Bureau of the Census indicates the majority of agricultural entities that deal in less valuable animals, such as grade animals, can be considered small entities. This may not be the case for entities dealing exclusively in more valuable animals, such as purebred or registered animals.

This rule should have a minimal effect on exporters, whether small or large. Only 1.28 percent of the export certificates requiring the verification of tests or vaccinations that APHIS issued in FY 1998 would have been covered by the maximum user fee for those endorsements. For those entities that do experience a change in the amount, the difference will be a lower charge for the endorsement.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

Regulatory Reform

This action is part of the President's Regulatory Reform Initiative, which, among other things, directs agencies to remove obsolete and unnecessary regulations and to find less burdensome ways to achieve regulatory goals.

List of Subjects in 9 CFR Part 130

Animals, Birds, Diagnostic reagents, Exports, Imports, Poultry and poultry products, Quarantine, Reporting and recordkeeping requirements, Tests.

Accordingly, we are amending 9 CFR part 130 as follows:

PART 130—USER FEES

1. The authority citation for part 130 continues to read as follows:

Authority: 5 U.S.C. 5542; 7 U.S.C. 1622; 19 U.S.C. 1306; 21 U.S.C. 102-105, 111, 114, 114a, 134a, 134c, 134d, 134f, 136, and 136a; 31 U.S.C. 3701, 3716, 3717, 3719, and 3720A; 7 CFR 2.22, 2.80, and 371.2(d).

2. In § 130.20, paragraph (b)(1) introductory text is revised to read as follows:

§ 130.20 User fees for endorsing export health certificates.

* * * * *

(b)(1) User fees for the endorsement of export health certificates that require the verification of tests or vaccinations are listed in the following table. The user fees apply to each export health certificate ⁵ endorsed for animals and birds depending on the number of animals or birds covered by the certificate and the number of tests required. However, there will be a maximum user fee of 12 times the hourly rate user fee listed in § 130.21(a) of this part for any single shipment. The person for whom the service is provided and the person requesting the service are jointly and severally liable for payment of these user fees in accordance with the provisions in §§ 130.50 and 130.51.

⁵ An export health certificate may need to be endorsed for an animal being exported from the United States of the country to which the animal is being shipped requires one. APHIS endorses export health certificates as a service.

* * * * *

Done in Washington, DC, this 21st day of March 2000.
Bobby R. Acord,
Acting Administrator, Animal and Plant Health Inspection Service.

[FR Doc. 00-7447 Filed 3-24-00; 8:45 am]

BILLING CODE 3410-34-P